DEPARTMENT OF AGRICULTURE

Forest Service

Lassen County Resource Advisory Committee

AGENCY: Forest Service, USDA.

ACTION: Notice of meeting.

SUMMARY: The Lassen County Resource Advisory Committee will meet in Susanville, CA. The committee is meeting as authorized under the Secure Rural Schools and Community Self-Determination Act (Pub. L. 112-141) and in compliance with the Federal Advisory Committee Act. The meeting is to review and recommend projects authorized under Title II of the Act.

DATES: The meeting will be held September 27, 2012 from 8 a.m. to 4 p.m.

ADDRESSES: The meeting will be held at the Lassen National Forest Supervisor's Office in the Caribou Conference Room at 2550 Riverside Drive, Susanville, CA.

FOR FURTHER INFORMATION CONTACT: Heidi Perry, Public Affairs Officer for the Lassen National Forest at 530-252-6604 or hperry@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public.

Dated: August 28, 2012.
Jerry Bird,
Forest Supervisor.

[FR Doc. 2012-21813 Filed 9-4-12; 8:45 am]

BILLING CODE 3410-11-P